DEPARTMENT OF ENERGY

Federal Energy Regulatory Commission

Notice of Scoping Meetings and Site Visit and Soliciting Scoping Comments

March 10, 2000.

Take notice the following hydroelectric application has been filed with the Commission and is available for public inspection:

a. Type of Application: New Minor License.

b. Project No.: P-2694-002.

c. Date filed: September 27, 1999.

d. Applicant: Nantahala Power and Light.

e. Name of Project: Queens Creek Hydroelectric Project.

f. Location: On Queens Creek, near the town of Topton, in Macon County, North Carolina. The project would not utilize federal lands.

g. Filed Pursuant to: Federal Power Act, 16 U.S.C. §§ 791(a)-825(r).

h. Applicant Contact: Mr. John Wishon; Nantahala Power and Light; 301 NP&L Loop Road; Franklin, NC 28734; (828) 369-4604.

i. FERC Contact: Kevin Whalen (202) 219-2790, kevin.whalen@ferc.fed.us.

j. Deadline for filing scoping comments: May 12, 2000.

All documents (original and eight copies) should be filed with: David P. Boergers, Secretary; Federal Energy Regulatory Commission; 888 First Street, NE; Washington, DC 20426.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Status of environmental analysis: This application is not ready for environmental analysis at this time.

l. Description of the Project: The project consists of the following existing facilities: (1) A 78-foot-high, 382-foot-long earth-faced rock fill dam; (2) a 4-foot-wide by 4-foot-high horizontal intake structure, having a trashrack with 1.0-inch clear bar spacing; (3) a 6,250-foot-long steel penstock leading to a concrete and steel powerhouse containing a single generating unit, having an installed capacity of 1,440 kilowatts; (4) a 37-acre impoundment that extends approximately 0.7 miles upstream; and (5) appurtenant facilities. The applicant estimates the total average annual generation would be approximately 5,000 megawatt hours.

m. Location of the application: A copy of the application is available for inspection and reproduction at the Commission's Public Reference Room, located at 888 First Street, NE, Room 2A, Washington, DC 20246, or by calling (202) 208-1371. The application may be viewed on the web at http://www.ferc.us/online/rims.htm (call (202) 208-2222 for assistance). A copy is also available for inspection and reproduction at the address in item h. above.

n. Scoping Process: The Commission intends to prepare an Environmental Assessment (EA) on the project in accordance with the National Environmental Policy Act. The EA will consider both site-specific and cumulative environmental impacts and reasonable alternatives to the proposed action.

Scoping Meetings

The Commission will hold scoping meetings, one in the daytime and one in the evening, to help us identify the scope of issues to be addressed in the EA.

The daytime scoping meeting will focus on resource agency concerns, while the evening scoping meeting is primarily for public input. All interested individuals, organizations, and agencies are invited to attend one or both of the meetings, and to assist the staff in identifying the scope of the environmental issues that should be analyzed in the EA. The times and locations of these meetings are as follows:

Daytime meeting | Evening meeting
Date: April 12, 2000 | Date: April 12, 2000.
Time: 2:00 pm | Time: 7:00 pm.
Place: NP&L Corporate Headquarters located at 301 NP&L Loop Road, Franklin, NC | Place: NP&L Corporate Headquarters located at 301 NP&L Loop Road, Franklin, NC.

To help focus discussions, we will distribute a Scoping Document (SD1) outlining the subject areas to be addressed in the EA to the parties on the Commission's mailing list. Copies of the SD1 also will be available at the scoping meeting.

Site Visit

The applicant and Commission staff will conduct a project site visit on Wednesday, April 12, 2000. We will meet at 10:00 am at the NP&L sub-station located adjacent to the Queens Creek powerhouse. If you would like to attend, please call Mr. John Wishon, NP&L, at (828) 369-4604, no later than April 10, 2000.

Objectives

At the scoping meetings, staff will: (1) Summarize the environmental issues tentatively identified for analysis in the EA; (2) solicit from the meeting participants all available information, especially quantifiable data, on the resources at issue; (3) encourage statements from experts and the public on issues that should be analyzed in the EA, including view points in opposition to, or in support of, the staff's preliminary views; (4) determine the resource issues to be addressed in the EA; and (5) identify those issues that require a detailed analysis, as well as those issues that do not require a detailed analysis.

The meetings will be recorded by a stenographer and will become part of the formal record of the Commission proceeding on the project. Individuals presenting statements at the meetings will be asked to sign in before the meeting starts and to clearly identify themselves for the record.

Individuals, organizations, and agencies with environmental expertise and concerns are encouraged to attend the meetings and to assist staff in defining and clarifying the issues to be addressed in the EA.

David P. Boergers,
Secretary.

[FR Doc. 00-6455 Filed 3-15-00; 8:45 am]

BILLING CODE 6717-01-M